Proclamation 8235 of April 9, 2008

National D.A.R.E. Day, 2008

By the President of the United States of America

A Proclamation

For 25 years, Drug Abuse Resistance Education (D.A.R.E.) has given school children across America an opportunity to gain the skills they need to avoid involvement in drugs, gangs, and violence. On National D.A.R.E. Day, we recognize those individuals who teach America's children how to resist peer pressure and live productive, drug-free, and violence-free lives.

Millions of our Nation's young people have learned about the dangerous effects of drug abuse with the help of the D.A.R.E. program. Parents, law enforcement officials, teachers, and counselors are on the front lines of this effort and are sending our kids a clear message that drug use is dangerous and unacceptable. In classrooms across the country, police officers are answering students' tough questions about drugs and crime and encouraging an open line of communication between students and law enforcement.

My Administration is committed to reducing drug use among young people, and we are working to cut the supply of drugs coming into our country and fight demand here at home. Additionally, we are helping spread the message of drug prevention through the National Youth Anti-Drug Media Campaign and the Partnership for a Drug-Free America. The Helping America's Youth initiative, led by First Lady Laura Bush, is working with community leaders to address challenges facing young people on a daily basis. These and other efforts are helping to combat the destructive cycle of drug addiction.

All Americans have a responsibility to encourage others to turn away from drug abuse and to make good choices in life. During National D.A.R.E. Day, we renew our commitment to providing our youth the knowledge and encouragement they need to resist the pressures that can lead them to experiment with drugs and violent activities. By working together, we can help our children build lives of purpose and strengthen our communities, one heart and one soul at a time.

NOW, THEREFORE, I, GEORGE W. BUSH, President of the United States of America, by virtue of the authority vested in me by the Constitution and laws of the United States, do hereby proclaim April 10, 2008, as National D.A.R.E. Day. I urge all young people to make right choices and call upon all Americans to recognize our collective responsibility to combat every form of drug abuse and to support all those who work to help our children avoid drug use and violence.

IN WITNESS WHEREOF, I have hereunto set my hand this ninth day of April, in the year of our Lord two thousand eight, and of the Independence of the United States of America the two hundred and thirty-second.

[FR Doc. 08-1124

Filed 4-10-08; 8:58 am]

Billing code 3195-01-P